DEPARTMENT OF AGRICULTURE

Animal and Plant Health Inspection Service

[Docket No. APHIS-2017-0098]

Notice of a Determination Regarding the Classical Swine Fever and Swine Vesicular Disease Status of Japan

AGENCY: Animal and Plant Health Inspection Service, USDA.

ACTION: Notice.

SUMMARY: We are advising the public of our determination that Japan is free of classical swine fever (CSF) and swine vesicular disease (SVD). Based on an evaluation of the CSF and SVD status of Japan, which we made available to the public for review and comment through a previous notice, the Administrator has determined that CSF and SVD are not present in Japan and that live swine, pork, and pork products may safely be imported into the United States from Japan subject to conditions in the regulations.

DATES: This change in Japan's CSF and SVD status will be recognized on July 9, 2018.

FOR FURTHER INFORMATION CONTACT: Dr. Kelly Rhodes, Senior Staff Veterinarian, Regionalization Evaluation Services, National Import Export Services, VS, APHIS, USDA, 4700 River Road Unit 38, Riverdale, MD 20737-1231; email: Kelly.Rhodes@aphis.usda.gov; (301) 851-3315.

SUPPLEMENTARY INFORMATION:

The regulations in 9 CFR part 94 (referred to below as the regulations) govern the importation of certain animals and animal products into the United States in order to prevent the introduction of various animal diseases, including classical swine fever (CSF) and swine vesicular disease (SVD). These are dangerous and communicable diseases of swine.

Within part 94, § 94.9 contains requirements governing the importation of pork and pork products from regions where CSF exists. Section 94.10 contains importation requirements for swine from regions where CSF is considered to exist. Section 94.12 contains requirements governing the importation of pork or pork products from regions where SVD exists. Section 94.14 prohibits the importation of domestic swine which are moved from or transit any region in which SVD is known to exist.

In accordance with §§ 94.9(a)(1) and 94.10(a)(1), the Animal and Plant Health Inspection Service (APHIS) maintains a web-based list of regions which the Agency considers free of CSF. Sections 94.9(a)(2) and 94.10(a)(2) state that APHIS will add a region to this list after it conducts an evaluation of the region and finds that CSF is not present.

Similarly, in accordance with § 94.12(a)(1), APHIS maintains a web-based list of regions which the Agency considers free of SVD. Paragraph (a)(2) of this section states that APHIS will add a region to this list after it conducts an evaluation of the region and finds that SVD is not present.

The regulations in § 92.2 contain requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

In accordance with that process, Japan requested that APHIS evaluate the CSF and SVD disease status of the country. Based on our evaluation, we determined that Japan is free of both CSF and SVD and that the surveillance, prevention, and control measures implemented by Japan are sufficient to minimize the likelihood of introducing CSF and SVD into the United States via imports of species or products susceptible to these diseases.

On February 20, 2018, we published in the Federal Register (83 FR 7138, Docket No. APHIS-2017-0098) a notice ¹ in which we announced the availability for review and comment of our evaluation of the CSF and SVD status of Japan. We solicited comments on the notice for 30 days ending on March 22, 2018. We received no comments on our evaluation.

¹ To view the notice and the supporting documents, go to https://www.regulations.gov/docket?D=APHIS20170098.

Therefore, based on the findings of our evaluation and the absence of comments that would lead us to reconsider those findings, we are announcing our determination to add Japan to the list of regions declared free of CSF and the list of regions declared free of SVD. These lists are available on the APHIS website at https://www.aphis.usda.gov/aphis/ourfocus/animalhealth/animal-and-animal-product-import-information/ct_animal_disease_status.

Authority: 7 U.S.C. 450, 7701-7772, 7781-7786, and 8301-8317; 21 U.S.C. 136 and 136a; 31 U.S.C. 9701; 7 CFR 2.22, 2.80, and 371.4.

Done in Washington, DC, this 1st day of June 2018.
Kevin Shea,
Administrator, Animal and Plant Health Inspection Service.

[FR Doc. 2018-12186 Filed 6-6-18; 8:45 am]

BILLING CODE 3410-34-P